DEPARTMENT OF THE INTERIOR

Minerals Management Service

Agency Information Collection Activities: Submitted for Office of Management and Budget (OMB) Review; Comment Request

AGENCY: Minerals Management Service (MMS), Interior.

ACTION: Notice of a revision of a currently approved information collection (OMB Control Number 1010-0107).

SUMMARY: To comply with the Paperwork Reduction Act of 1995 (PRA), we are notifying the public that we have submitted to the Office of Management and Budget (OMB) an information collection request (ICR) to renew approval of the paperwork requirements in the regulations under 30 CFR part 218, subpart A—General Provisions; subpart B—Oil and Gas, General; and subpart E—Solid Minerals—General. This notice also provides the public a second opportunity to comment on the paperwork burden of these regulatory requirements. We changed the title of this ICR to clarify the regulatory language we are covering under 30 CFR part 218. The previous title of this ICR was “30 CFR Part 218, Subpart B—Oil and Gas, General.” The new title of this ICR is “30 CFR Part 218, Subpart A—General Provisions, § 218.42 Cross-lease netting in calculation of late-payment interest; Subpart B—Oil and Gas, General, §§ 218.52 How does a lessee designate a Designee? (Form MMS-4425, Designation Form for Royalty Payment Responsibility) and 218.53 Recoupment of overpayments on Indian mineral leases; and Subpart E—Solid Minerals—General, § 218.203 Recoupment of overpayments on Indian mineral leases.”

DATES: Submit written comments on or before July 21, 2005.

ADDRESSES: Submit written comments by either FAX (202) 395-6566 or e-mail (OIRA_Docket@omb.eop.gov) directly to the Office of Information and Regulatory Affairs, OMB, Attention: Desk Officer for the Department of the Interior (OMB Control Number 1010-0107). Mail your comments to Sharron L. Gebhardt, Lead Regulatory Specialist, Minerals Management Service, Minerals Revenue Management, P.O. Box 25165, MS 302B2, Denver, Colorado 80225. If you use an overnight courier service or wish to hand-carry your comments, the address is Building 85, Room A-614, Denver Federal Center, Denver, Colorado 80225. You may also e-mail your comments to us at mrm.comments@mms.gov. Include the title of the information collection and the OMB Control Number in the “Attention” line of your comment. Also include your name and return address. Submit electronic comments as an ASCII file avoiding the use of special characters and any form of encryption. If you do not receive a confirmation that we have received your e-mail, contact Ms. Gebhardt at (303) 231-3211.

FOR FURTHER INFORMATION CONTACT: Sharron L. Gebhardt, telephone (303) 231-3211, FAX (303) 231-3781, e-mail Sharron.Gebhardt@mms.gov. You may also contact Sharron Gebhardt to obtain a copy, at no cost, of the form and regulations that require this collection of information.

SUPPLEMENTARY INFORMATION: Title: 30 CFR Part 218, Subpart A—General Provisions, § 218.42 Cross-lease netting in calculation of late-payment interest; Subpart B—Oil and Gas, General, §§ 218.52 How does a lessee designate a Designee? (Form MMS-4425, Designation Form for Royalty Payment Responsibility) and 218.53 Recoupment of overpayments on Indian mineral leases; and Subpart E—Solid Minerals—General, § 218.203 Recoupment of overpayments on Indian mineral leases.

OMB Control Number: 1010-0107.

Bureau Form Number: Form MMS-4425.

Abstract: The Secretary of the U.S. Department of the Interior is responsible for matters relevant to mineral resource development on Federal and Indian lands and the Outer Continental Shelf (OCS). The Secretary, under the Mineral Leasing Act (30 U.S.C. 1923) and the Outer Continental Shelf Lands Act (43 U.S.C. 1353), is responsible for managing the production of minerals from Federal and Indian lands and the OCS, collecting royalties from lessees who produce minerals, and distributing the funds collected in accordance with applicable laws.

The Secretary has a trust responsibility to manage Indian lands and seek advice and information from Indian beneficiaries. The MMS performs the royalty management functions and assists the Secretary in carrying out the Department's trust responsibility.

This ICR includes unique reporting circumstances including designation of designee, cross-lease netting in calculation of late-payment interest, and tribal permission for recoupment on Indian leases. Applicable citations of the laws pertaining to mineral leases include Public Law 97-451—Jan. 12, 1983 (Federal Oil and Gas Royalty Management Act of 1982 [FOGRMA]); Public Law 104-185—Aug. 13, 1996 (Federal Oil and Gas Royalty Simplification and Fairness Act of 1996 [RSFA]), as corrected by Public Law 104-200—Sept. 22, 1996); and the Indian Mineral Development Act of 1982 (25 U.S.C. 2101 et seq.). Public laws pertaining to mineral royalties are located on our Web site at http://www.mrm.mms.gov/Laws_R_D/PublicLawsAMR.htm.

Designation of Designee

The RSFA established that owners of, primarily, operating rights or, secondarily, lease record title (both referred to as “lessees”) are responsible for making royalty and related payments on Federal oil and gas leases. These RSFA requirements were promulgated in regulations at 30 CFR 218.52. It is common, however, for a payor rather than a lessee to make these payments. When a payor makes payments on behalf of a lessee, RSFA section 6(g) requires that the lessee designate the payor as its designee and notify MMS of this arrangement in writing. The MMS designed Form MMS-4425, Designation Form for Royalty Payment Responsibility, to request all the information necessary for lessees to comply with these RSFA requirements when they choose to designate an agent to pay for them. The MMS requires this information to ensure proper mineral revenue collection.

Cross-Lease Netting in Calculation of Late-Payment Interest

Regulations at 30 CFR 218.54 require MMS to assess interest on unpaid or underpaid amounts. The MMS distributes these interest revenues to states, Indians, and the U.S. Treasury, based on financial lease distribution information. Current regulations at 30 CFR 218.42 provide that an overpayment on a lease or leases may be offset against an underpayment on a different lease or leases to determine the net payment subject to interest, when certain conditions are met. This is called cross-lease netting. However, RSFA sections 6(a), (b), and (c) require MMS to pay interest on lessees' Federal oil and gas overpayments made on or after February 13, 1997 (6 months after the August 13, 1996, enactment of RSFA). The MMS implemented this RSFA provision in 1997 and began calculating interest on both underpayments and overpayments for Federal oil and gas leases, making the cross-lease netting provisions at 30 CFR 218.42 no longer applicable for these leases. The MMS is currently developing regulations to amend 30 CFR 218.42 to limit its applicability to payments made under Indian tribal leases and Federal leases for minerals other than oil and gas. The MMS estimates that, in about seven cases per year, lessees must comply with the provisions of 30 CFR 218.42(b) and (c) for Indian tribal leases or Federal leases other than oil and gas, demonstrating that cross-lease netting is correct by submitting production reports, pipeline allocation reports, or other similar documentary evidence. This information is necessary for MMS to determine the correct amount of interest owed by the lessee and to ensure proper value is collected.

Tribal Permission for Recoupment on Indian Leases

In order to report cross-lease netting on Indian leases, lessees must also comply with regulations at 30 CFR 2l8.53(b) and 218.203(b), allowing only lessees with written permission from the tribe to recoup overpayments on one lease against a different lease for which the tribe is the lessor. The payor must furnish MMS with a copy of the tribe's written permission. Generally, a payor may recoup an overpayment against the current month's royalties or other revenues owed on the same tribal lease. For any month, a payor may not recoup more than 50 percent of the royalties or other revenues owed in that month, under an individual allotted lease, or more than 100 percent of the royalties or other revenues owed in that month, under a tribal lease. Lessees use Form MMS-2014, Report of Sales and Royalty Remittance (burden hours covered under ICR 1010-0140, expires October 31, 2006), for oil and gas lease recoupments and Form MMS-4430, Solid Mineral Production and Royalty Report (burden hours covered under ICR 1010-0120, expires October 31, 2007), for solid mineral lease recoupments. The MMS requires tribal permission to ensure tribes and individual Indian mineral owners receive correct revenues from production on their leases.

The MMS is requesting OMB's approval to continue to collect this information. Not collecting this information would limit the Secretary's ability to discharge his/her duties and may also result in loss of royalty payments. Proprietary information submitted is protected, and there are no questions of a sensitive nature included in this information collection.

Frequency: On occasion.

Estimated Number and Description of Respondents: 1,613 Federal and Indian lessees.

Estimated Annual Reporting and Recordkeeping “Hour” Burden: 1,220 hours.

We have not included in our estimates certain requirements performed in the normal course of business and considered usual and customary. The following chart shows the estimated burden hours by CFR section and paragraph:

Respondents' Estimated Annual Burden Hours
Citation 30 CFR 218 | Reporting and recordkeeping requirement | Hour burden | Average number of annual responses | Annual burden Hours
Subpart A—General Provisions—Cross-lease netting in calculation of late-payment interest.
218.42(b) and (c) | Cross-lease netting in calculation of late-payment interest. (b) Royalties attributed to production from a lease or leases which should have been attributed to production from a different lease or leases may be offset * * * if * * * the payor submits production reports, pipeline allocation reports, or other similar documentary evidence pertaining to the specific production involved which verifies the correct production information * * * | 2 | 7 | 14
| (c) If MMS assesses late-payment interest and the payor asserts that some or all of the interest is not owed * * * the burden is on the payor to demonstrate that the exception applies * *
Subpart B—Oil and Gas, General—How does a lessee designate a Designee?
218.52 (a), (c), and (d) | How does a lessee designate a Designee? (a) If you are a lessee under 30 U.S.C. 1701(7), and you want to designate a person to make all or part of the payments due under a lease on your behalf * * * you must notify MMS * * * in writing of such designation * * * | 0.75 | 1,600 | 1,200
| (c) If you want to terminate a designation * * * you must provide [the following] to MMS in writing * * *
| (d) MMS may require you to provide notice when there is a change in the percentage of your record title or operating rights ownership.
| The MMS currently uses Form MMS-4425, Designation Form for Royalty Payment Responsibility to collect this information
Subpart B—Oil and Gas, General—Recoupment of overpayments on Indian mineral leases.
218.53 | (b)Recoupment of overpayments on Indian mineral leases. (b) With written permission authorized by tribal statute or resolution, a payor may recoup an overpayment against royalties or other revenues owed * * * under other leases * * *. A copy of the tribe's written permission must be furnished to MMS * * * | 1 | 5 | 5
Subpart E—Solid Minerals—General—Recoupment of overpayments on Indian mineral leases.
218.203 (b) | Recoupment of overpayments on Indian mineral leases. (b) With written permission authorized by tribal statute or resolution, a payor may recoup an overpayment against royalties or other revenues owed in that month under other leases for which that tribe is the lessor. A copy of the tribe's written permission must be furnished to MMS * * * [following] instructions * * * | 1 | 1 | 1
Total Burden |  |  | 1,613 | 1,220

We are revising this ICR to include regulations at 30 CFR 218.42(b) and (c) Cross-lease netting in calculation of late-payment interest and 30 CFR 218.203(b) Recoupment of overpayments on Indian mineral leases, which were not included in the previous renewal. Burden hours for 30 CFR 218.57, which were included in the previous renewal, are now covered in ICR 1010-0120 (expires October 31, 2007).

Estimated Annual Reporting and Recordkeeping “Non-hour” Cost Burden: We have identified no “non-hour” cost burdens.

Public Disclosure Statement: The PRA (44 U.S.C. 3501 et seq.) provides that an agency may not conduct or sponsor, and a person is not required to respond to, a collection of information unless it displays a currently valid OMB control number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on October 19, 2004 (69 FR 61519), announcing that we would submit this ICR to OMB for approval. The notice provided the required 60-day comment period. We received no comments relevant to the Federal Register notice. If you wish to comment in response to this notice, you may send your comments to the offices listed under the ADDRESSES section of this notice. The OMB has up to 60 days to approve or disapprove the information collection but may respond after 30 days. Therefore, to ensure maximum consideration, OMB should receive public comments by July 21, 2005.

Public Comment Policy: We will post all comments in response to this notice on our Web site at http://www.mrm.mms.gov/Laws_R_D/InfoColl/InfoColCom.htm. We will also make copies of the comments available for public review, including names and addresses of respondents, during regular business hours at our offices in Lakewood, Colorado. Upon request, we will withhold an individual respondent's home address from the public record, as allowable by law. There also may be circumstances in which we would withhold a respondent's identity, as allowable by law. If you request that we withhold your name and/or address, state your request prominently at the beginning of your comment. However, we will not consider anonymous comments. We will make all submissions from organizations or businesses, and from individuals identifying themselves as representatives or officials of organizations or businesses, available for public inspection in their entirety.

MMS Information Collection Clearance Officer: Arlene Bajusz (202) 208-7744.

Dated: April 14, 2005.
Lucy Querques Denett,
Associate Director for Minerals Revenue Management.

[FR Doc. 05-12134 Filed 6-20-05; 8:45 am]

BILLING CODE 4310-MR-P